DEPARTMENT OF LABOR

Office of the Secretary

[Secretary's Order 13-2006]

Delegation of Authorities and Assignment of Responsibilities to the Assistant Secretary for Policy

1. Purpose

To define and delegate authorities and responsibilities to the Assistant Secretary for Policy.

2. Authorities and Directives Affected

A. Authorities.

This Order is issued pursuant to 29 U.S.C. 551 et seq.; 5 U.S.C. 301; Reorganization Plan No. 6 of 1950 (5 U.S.C. Appendix 1); 5 U.S.C. 5315; the Regulatory Flexibility Act, as amended by the Small Business Regulatory Enforcement Fairness Act [see 5 U.S.C. 601 et seq. and 15 U.S.C. 657]; Executive Order 12866, “Regulatory Planning and Review” (September 30, 1993), as amended by Executive Order 13258 (February 26, 2002); and Executive Order 13272, “Proper Consideration of Small Entities in Agency Rulemaking” (August 13, 2002).

B. Directives Affected

(1) This Order does not affect the authorities and responsibilities assigned by any other Secretary's Order, unless otherwise expressly so provided in this or another Order.

(2) Secretary's Order 2-2002, which delegated authority and assigned responsibilities to the Assistant Secretary for Policy (OASP), is cancelled.

(3) This Order does not affect Secretary's Order 2-2005, which establishes policy and assigns responsibilities for the management of Department of Labor enterprise communication services, including Internet and intranet Web sites, telephone contact centers, electronic correspondence, translation services, and similar activities.

(4) This Order does not affect the procurement and contracting authority of the Assistant Secretary for Administration and Management. (see Secretary's Order 4-76.)

3. Background

The Office of the Assistant Secretary for Policy (OASP) has since its inception provided advice and assistance to the Secretary and Deputy Secretary in a number of areas, including policy development, program implementation, program evaluations, research, budget and performance analysis, and legislative and other policy support. The Secretary of Labor advises the President and represents the Department of Labor (DOL or Department) in Cabinet deliberations dealing with significant and complex regulatory and programmatic policy and legislative issues, and issues related to economic data and trends, particularly as they impact preparing the American workforce for the 21st century economy. The accelerating rate of technological and economic change compels the need for a cadre of skilled analysts available to the Secretary who can respond quickly to urgent policy and programmatic matters. Thus, this Order sets forth OASP's role of providing support, analysis, and advice to the Secretary and Deputy Secretary on policy, programmatic, economic, technical, regulatory, and compliance assistance issues.

This Order describes current OASP responsibilities, delineates additional responsibilities, and realigns the offices within OASP to include the Office of Economic Policy and Analysis, the Office of Regulatory and Programmatic Policy, and the Office of Compliance Assistance Policy. This Order eliminates the Office of Research and Technology Policy, and consolidates the former Offices of Regulatory Policy and of Programmatic Policy into one office to address both programmatic and regulatory policy development and analysis. The Order also addresses OASP's role with respect to the Policy Planning Board (see Secretary's Order XX-2006); Executive Order 12866 and related guidance from the Office of Management and Budget's Office of Information and Regulatory Affairs; the requirements of the Regulatory Flexibility Act, as amended by the Small Business Regulatory Enforcement Fairness Act (SBREFA); and the administration of the DOL Working Partners for an Alcohol- and Drug-Free Workplace program.

This Order and Secretary's Order 4-2002 (Office of Small Business Programs) consolidate and restructure the Department's compliance assistance programs, enhancing policy coordination. Compliance assistance is an essential and integral part of how the Department conducts its business and fulfills its mission. In order to avert and deter violations of wage, safety, employee benefits, and other laws that it administers, the Department must offer strong, effective compliance assistance programs. Employers and employees must have access to clear, accurate, and understandable information on achieving compliance with laws under the Department's jurisdiction. Under this Order, OASP has the responsibility of assuring the full, effective, and resourceful implementation of the Department's compliance assistance initiatives.

Finally, consistent with Secretary's Order 09-2006, (Office of Job Corps), this Order sets forth OASP's responsibilities related to the Office of Job Corps.

4. Delegation of Authorities and Assignment of Responsibilities

A. The Assistant Secretary for Policy is delegated authority and assigned responsibility for:

(1) Advising the Secretary and Deputy Secretary and supervising the preparation of studies, analyses, public statements and other policy statements with respect to the Secretary's duties in the areas of regulatory, programmatic and compliance assistance policy and economic policy formulation, including the impact of Departmental policies and programs on general economic policy.

(2) Consistent with Secretary's Order 12-2006, providing analytic and administrative leadership and support for the Department's Policy Planning Board.

(3) Establishing the following offices and positions within OASP:

(a) An Office of Compliance Assistance Policy, to be headed by a Director, which will implement, manage, and coordinate Departmental compliance assistance policies, initiatives and programs, including Department-wide cross-cutting initiatives.

(b) An Office of Economic Policy and Analysis, to be headed by a Chief Economist, which will implement, manage, and coordinate Departmental economic policy, research and analysis.

(c) An Office of Regulatory and Programmatic Policy, to be headed by a Director, which will implement, manage, and coordinate Departmental regulatory and programmatic policy, and serve as the Departmental liaison with the Office of the Federal Register.

(4) Providing the analytical support required by the Secretary, Deputy Secretary, and Policy Planning Board with respect to policy issues and trends that require economic analyses or other expertise, including:

(a) Providing analysis of issues in the macroeconomic and microeconomic policy areas.

(b) Preparing recommendations and analyses with respect to long- and short-term economic trends, preparing economic studies and analyses related to the formulation of policy, and preparing economic analyses relating to economic impact of Departmental policies, regulations, and programs on general administration policy within the United States.

(5) In consultation with the Office of the Solicitor, representing the Secretary in a variety of forums attended by officials in the government and with appropriate outside parties and maintaining continuous and personal liaison with those groups and the White House on matters involving policy, Departmental programs, economic issues, regulations, or compliance assistance.

(6) Reviewing cross-cutting activities within the Department as they pertain to the Secretary's broader policy functions, including Government Performance Results Act and other Departmental reports, budget and legislative proposals, and Congressional reports, and coordinating selected reports to OMB and other agencies.

(7) Providing analysis and advice to the Secretary and Deputy Secretary on policies and programs related to developing, implementing and institutionalizing compliance assistance initiatives, including reviewing Agency compliance assistance plans, identifying and promoting best practices and providing leadership and coordination in creating departmental compliance assistance tools, such as elaws Advisors and small business guides.

(8) Compiling economic data and analysis for the Secretary and Deputy Secretary on current economic developments.

(9) Conducting appropriate research, analysis and evaluation activities in accord with the Secretary's selected priorities.

(10) Preparing and providing analysis and advice to the Secretary, Deputy Secretary and PPB on the Departmental research agenda, including all current, recently completed or planned Agency research projects.

(11) Advising the Secretary, Deputy Secretary and Director of the Office of Jobs Corps on research, evaluations and policy initiatives related to the Job Corps program.

(12) In consultation with the Office of the Solicitor, providing general oversight of, and guidance for, the Department's compliance with the Regulatory Flexibility Act, as amended by SBREFA, and related laws (including EO 12866, EO 13272, or similar executive orders), including such activities as:

(a) Developing and implementing the written Departmental policies and procedures concerning the potential impact of draft rules on small entities, as required by Section 3(a) of EO 13272.

(b) Providing analysis, guidance, review, and technical assistance, as necessary, to program agencies which are preparing required studies such as regulatory impact and flexibility studies.

(c) Providing guidance and technical assistance, as necessary, to program agencies during the Small Business Advocacy Review Panel process (if applicable).

(d) Preparing, coordinating, and reviewing the Department's Semi-Annual Regulatory Agenda and Semi-Annual Peer Review Agenda.

(e) In coordination with the Office of Small Business Programs, acting as the Department's liaison with the Small Business Administration (SBA), including its Chief Counsel for Advocacy and Office of the National Ombudsman.

(f) Consistent with Secretary's Order 12-2006, providing analysis for the Policy Planning Board.

(11) Administering the Department's Working Partners for an Alcohol and Drug-Free Workplace Program and its Small Business Initiative.

(12) Coordinating and consulting, as appropriate, with other DOL agencies in fulfilling the above responsibilities.

(13) Performing any additional or similar duties that may be assigned by the Secretary.

B. The Assistant Secretary for Administration and Management is delegated authority and assigned responsibility for:

(1) Ensuring that any transfer of budgetary resources arising from this Order is fully consistent with the established requirements of the Department.

(2) Ensuring that appropriate administrative and management support is furnished, as required, for the efficient and effective operation of these programs.

C. The Solicitor of Labor is responsible for providing legal advice and assistance to all Department of Labor officials relating to implementation and administration of all aspects of this Order.

D. DOL Agency heads are responsible for coordinating with OASP on policies and activities relating to the mission of their respective agencies, including:

(1) In consultation with the Office of the Solicitor, fulfilling the requirements of the Regulatory Flexibility Act, as amended by SBREFA, and related laws, including appropriate coordination with small entities in the development of rules, production of plain language compliance guides, and responding to requests for information.

(2) Ensuring that reports requested by OASP concerning the achievement of the objectives of this order are accurate and submitted in a timely manner.

5. Reservation of Authority and Responsibility

A. The submission of reports and recommendations to the President and the Congress concerning the administration of statutory or administrative provisions is reserved to the Secretary.

B. This Secretary's Order does not affect the authorities or responsibilities of the Office of the Inspector General under the Inspector General Act of 1978, as amended, or under Secretary's Order 4-2006 (February 21, 2006).

6. Redelegation/Reassignment of Authority

All authorities and responsibilities enumerated in this Order may be redelegated or reassigned within OASP.

7. Effective Date

This Order is effective immediately.

Dated: July 10, 2006.
Elaine L. Chao,
Secretary of Labor.

[FR Doc. 06-6445 Filed 7-24-06; 8:45 am]

BILLING CODE 4510-23-P